DEPARTMENT OF JUSTICE

Notice of Lodging of Consent Decree Under the Comprehensive Environmental Response, Compensation and Liability Act

In accordance with the Departmental Policy, 28 CFR 50.7, and section 122(d)(2) of the Comprehensive Environmental Response, Compensation, and Liability Act (“CERCLA”), 42 U.S.C. 9622(d)(2), notice is hereby given on August 7, 2002, a proposed Consent Decree in United States v. Dutton-Lainson Company, Civil Action No. 8:02CV366, was lodged with the United States District Court for the District of Nebraska.

This Consent Decree resolves claims of the United States' against Dutton-Lainson Company (“Dutton Lainson”) under Sections 106 and 107(a) of CERCLA, 42 U.S.C. 9606 and 9607(a), for recovery of response cost incurred and to be incurred by the United States Environmental Protection Agency (“EPA”) at the Well #3 Subsite (“Subsite”), one of seven subsites of the Hastings Ground Water Contamination Superfund Site located in Hastings, Nebraska. The Consent Decree requires Dutton-Lainson Company to implement EPA's selected remedial action for the Subsite, pay $333,119.76 in reimbursement of response costs, and pay EPA's future oversight costs at the Subsite.

The Department of Justice will receive written comments on the proposed Consent Decree for a period of thirty (30) days from the date of publication of this notice. Comments should be addressed to the Assistant Attorney General, Environment and Natural Resources Division, P.O. Box 7611, U.S. Department of Justice, Washington, DC 20044-7611, and should refer to United States v. Dutton-Lainson Company, D.J. Ref. 90-11-2-1112/1.

The Consent Decree may be examined at the Office of the United States Attorney, District of Nebraska, 1620 Dodge Street, Suite 1400, Omaha, Nebraska, and at EPA Region VII, 901 North 5th Street, Kansas City, Kansas. A copy of the Consent Decree may also be obtained by mail from the Consent Decree Library, P.O. Box 7611, U.S. Department of Justice, Washington, DC 20044-7611. When requesting a copy, please enclose a check to cover the twenty-five cents per page reproduction costs payable to the “U.S. Treasury” in the amount of $15.25 (for Decree without appendices) or $33.50 (for Decree with appendices), and please reference United States v. Dutton-Lainson Company, D.J. Ref. 90-11-2-1112/1.

Catherine R. McCabe,
Deputy Section Chief, Environmental Enforcement Section, Environment and Natural Resources Division.

[FR Doc. 02-20691 Filed 8-14-02; 8:45 am]

BILLING CODE 4410-15-M